DEPARTMENT OF ENERGY

Federal Energy Regulatory Commission

[Docket No. AD24-11-000]

Large Loads Co-Located at Generating Facilities; Supplemental Notice of Commissioner-Led Technical Conference

As announced in the August 2, 2024 Notice in this proceeding, the Federal Energy Regulatory Commission (Commission) will convene a Commissioner-led technical conference in the above-referenced proceeding. The technical conference will take place on November 1, 2024, from 10:00 a.m. to 3:00 p.m. Eastern Time. The technical conference will be held in-person at the Commission's headquarters at 888 First Street NE, Washington, DC 20426 in the Commission Meeting Room. The purpose of this technical conference is to discuss generic issues related to the co-location of large loads at generating facilities. The Commission does not intend to discuss at this technical conference any specific proceeding before the Commission. Broadly, issues to be explored at the technical conference may include whether co-located loads require the provision of wholesale transmission or ancillary services, related cost allocation issues, and potential resource adequacy, reliability, affordability, market, and customer impacts. Our next supplemental notice will include details on panels and a self-nomination process.

The technical conference will be open to the public. Advance registration is not required, and there is no fee for attendance. Information will also be posted on the Calendar of Events on the Commission's website, www.ferc.gov, prior to the event.

The technical conference will be transcribed and webcast. Transcripts will be available for a fee from Ace Reporting (202-347-3700). A link to the webcast of this event will be available in the Commission Calendar of Events at www.ferc.gov. The Commission provides technical support for the free webcasts. Please call 202-502-8680 or email customer@ferc.gov if you have any questions.

Commission technical conferences are accessible under section 508 of the Rehabilitation Act of 1973. For accessibility accommodations, please send an email to accessibility@ferc.gov or call toll free 1-866-208-3372 (voice) or 202-208-8659 (TTY) or send a fax to 202-208-2106 with the required accommodations.

For more information about this technical conference, please contact Keatley Adams at Keatley.Adams@ferc.gov or 202-502-8678. For legal information, please contact Christopher Chaulk at Christopher.Chaulk@ferc.gov or 202-502-6720. For information related to logistics, please contact Sarah McKinley at sarah.mckinley@ferc.gov or (202) 502-8368.

Dated: August 16, 2024.
Debbie-Anne A. Reese,
Acting Secretary.

[FR Doc. 2024-18889 Filed 8-22-24; 8:45 am]

BILLING CODE 6717-01-P